DEPARTMENT OF ENERGY

Federal Energy Regulatory Commission

Combined Notice of Filings

Take notice that the Commission has received the following Natural Gas Pipeline Rate and Refund Report filings:

Filings Instituting Proceedings

Docket Numbers: PR15-26-000.

Applicants: Enterprise Texas Pipeline LLC.

Description: Submits tariff filing per 284.123(b)(2) + (g): 2015 Petition for Rate Approval to be effective 3/13/2015; Filing Type: 1310.

Filed Date: 3/13/15.

Accession Number: 20150313-5032.

Comments Due: 5 p.m. ET 4/3/15.

284.123(g) Protests Due: 5 p.m. ET 5/12/15.

Docket Numbers: PR15-29-000.

Applicants: ONEOK Gas Transportation, L.L.C.

Description: Submits tariff filing per 284.123(b)(1) + (g): Petition for Authorization of Firm 311 Service to be effective 6/1/2015; Filing Type: 1300.

Filed Date: 3/13/15.

Accession Number: 20150313-5173.

Comments Due: 5 p.m. ET 4/3/15.

284.123(g) Protests Due: 5 p.m. ET 5/12/15.

Docket Numbers: RP13-459-000.

Applicants: Trailblazer Pipeline Company LLC.

Description: Compliance filing per 154.501: 2014 Penalty Revenue Crediting Reporting.

Filed Date: 3/16/15.

Accession Number: 20150316-5202.

Comments Due: 5 p.m. ET 3/30/15.

Docket Numbers: RP15-649-000.

Applicants: Southeast Supply Header, LLC.

Description: § 4(d) rate filing per 154.204: SESH Backhaul Contracts to be effective 5/1/2015.

Filed Date: 3/16/15.

Accession Number: 20150316-5091.

Comments Due: 5 p.m. ET 3/30/15.

Docket Numbers: RP15-650-000.

Applicants: Northern Natural Gas Company.

Description: Compliance filing per 154.203: 20150401 System Maps to be effective 4/1/2015.

Filed Date: 3/16/15.

Accession Number: 20150316-5104.

Comments Due: 5 p.m. ET 3/30/15.

Docket Numbers: RP15-651-000.

Applicants: OkTex Pipeline Company, L.L.C.

Description: § 4(d) rate filing per 154.204: Update Contact Information on Tariff's Title Sheet to be effective 4/16/2015.

Filed Date: 3/16/15.

Accession Number: 20150316-5106.

Comments Due: 5 p.m. ET 3/30/15.

Docket Numbers: RP15-652-000.

Applicants: Portland General Electric Company.

Description: Compliance filing per 154.203: Part II System Map Compliance Filing to be effective 4/1/2015.

Filed Date: 3/16/15.

Accession Number: 20150316-5107.

Comments Due: 5 p.m. ET 3/30/15.

Docket Numbers: RP15-653-000.

Applicants: Kern River Gas Transmission Company.

Description: Compliance filing per 154.203: 2015 Maps Compliance to be effective 4/1/2015.

Filed Date: 3/16/15.

Accession Number: 20150316-5114.

Comments Due: 5 p.m. ET 3/30/15.

Any person desiring to intervene or protest in any of the above proceedings must file in accordance with Rules 211 and 214 of the Commission's Regulations (18 CFR 385.211 and 385.214) on or before 5 p.m. Eastern time on the specified date(s). Protests may be considered, but intervention is necessary to become a party to the proceeding.

Filings in Existing Proceedings

Docket Numbers: RP15-523-001.

Applicants: Sabine Pipe Line LLC.

Description: Tariff Amendment per 154.205(b): Sabine Annual LUAF and Fuel Filing Amendment to be effective 4/1/2015.

Filed Date: 3/17/15.

Accession Number: 20150317-5029.

Comments Due: 5 p.m. ET 3/24/15.

Any person desiring to protest in any of the above proceedings must file in accordance with Rule 211 of the Commission's Regulations (18 CFR 385.211) on or before 5 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 17, 2015.
Nathaniel J. Davis, Sr.,
Deputy Secretary.

[FR Doc. 2015-06586 Filed 3-23-15; 8:45 am]

BILLING CODE 6717-01-P